DEPARTMENT OF HEALTH AND HUMAN SERVICES

Health Resources and Services Administration

Privacy Act of 1974; New System of Records

AGENCY: Health Resources and Services Administration (HRSA), HHS.

ACTION: Notice; correction.

SUMMARY: The Health Resources and Services Administration published a document in the Federal Register of June 20, 2007. The document pertaining to the HRSA Information Center (IC) entitled “Privacy Act of 1974: New System of Record” Integrated Clearinghouse System (ICS), HHS/HRSA/OC No. 09-15-0067, was inadvertently omitted as the attachment for the notice.

Correction

In the Federal Register of June 20, 2007, in FR Doc. 07-3052, on page 34018, in the second column, add the attachment for the notice.

Dated: July 20, 2007.
Elizabeth M. Duke,
Administrator.

09-15-0067

System Name:

HRSA Information Center (IC) Integrated Clearinghouse System (ICS), HHS/HRSA/OC

Security Classification:

Low.

System Location:

HRSA IC, Circle Solutions, Inc., 8280 Greensboro Drive, Suite 300, McLean, VA 22102.

Categories of Individuals Covered by the System:

Members of the public who request information or publications from the HRSA IC.

Categories of Records in the System:

The system includes: names, addresses, and telephone numbers of individuals who have placed orders via telephone, web, or written request for a 12-month period within receipt of the request.

Authority for Maintenance of the System:

5 U.S.C. 552.

Purpose(s):

To facilitate the delivery of publications and the response to questions pertaining to HRSA programs as requested by members of the general public.

Routine uses of Records Maintained in the System, Including Categories of Users and the Purposes of Such Uses:

1. Disclosure may be made to a congressional office from the records of an individual in response to a verified inquiry from the congressional office made at the written request of that individual.

2. In the event of litigation where the defendant is: (a) The Department, any component of the Department, or any employee of the Department in his or her official capacity; (b) The United States where the Department determines that the claim, if successful, is likely to directly affect the operations of the Department or any of its components; or, (c) Any Department employee in his or her individual capacity where the Justice Department has agreed to represent such employee, for example in defending a claim against the Public Health Service based upon an individual's mental or physical condition and alleged to have arisen because of activities of the Public Health Service in connection with such individual, disclosure may be made to the Department of Justice to enable that Department to present an effective defense, provided that such disclosure is compatible with the purpose for which the records were collected.

3. In the event that a system of records maintained by this agency to carry out its functions indicates a violation or potential violation of law, whether civil, criminal or regulatory in nature, and whether arising by general statute or particular program statute, or by regulation, rule or order issued pursuant thereto, the relevant records in the system of records may be referred to the appropriate agency, whether Federal, State or local, charged with enforcing or implementing the statute or rule, regulation or order issued pursuant thereto.

Storage:

All records are maintained in computer data files on servers maintained by the HRSA IC.

Retrievability:

Records are maintained for ready retrieval and customer quality assurance by HRSA IC staff by requestor name for orders placed within the previous rolling 12-month period.

Safeguards:

1. Authorized Users: Access to records is limited to designated HRSA IC staff. The HRSA IC maintains current lists of authorized users. All computer equipment and files are stored in areas where fire and life safety codes are strictly enforced. All automated documents are protected on a 24-hour basis. Perimeter security includes intrusion alarms, key card controls, and receptionist controlled area. No hard copy files are maintained. Computer files are password protected and are accessible only by use of computers which are password protected.

2. Physical Safeguards:

3. Procedural safeguards: A password is required to access computer files. All users of personal information in connection with the performance of their jobs protect information from public view and from unauthorized personnel entering an unsupervised area. All authorized users sign a nondisclosure statement. All passwords, keys and/or combinations are changed when a person leaves or no longer has authorized duties. Access to records is limited to those authorized personnel trained in Government privacy procedures.

Retention and Disposal:

Records of orders placed with the HRSA IC are maintained for 12 months, after which the records are purged from the system. Orders received by mail are shredded after the required information is entered into ICS.

System Manager and Address:

Director, Office of Communications, Health Resources and Services Administration, 5600 Fishers Lane, Parklawn Building, Room 14-45, Rockville, Maryland 20857.

Notification Procedure:

Individuals may learn about personal information maintained in the system by contacting the system manager at the address above.

Record Access Procedures:

Same as notification procedures. Requestors should also provide a reasonable description of the record being sought. Requesters may also request an accounting of disclosures that have been made of their records if any.

Contesting Record Procedures:

Contact the system manager as identified above, and reasonably identify the record contested, the corrective action sought, and the reason for seeking the information to show how the record is inaccurate or incomplete.

Record Source Categories:

Members of the general public who voluntarily make publication or information requests.

Systems Exempted from Certain Provisions of the Act:

None.

[FR Doc. 07-3873 Filed 8-8-07; 8:45 am]

BILLING CODE 4165-15-M